DEPARTMENT OF ENERGY

Federal Energy Regulatory Commission

[Docket No. ER01-3117-003, et al.]

Wellhead Power Gates, LLC, et al.; Electric Rate and Corporate Filings

February 2, 2005.

The following filings have been made with the Commission. The filings are listed in ascending order within each docket classification.

1. Wellhead Power Gates, LLC

[Docket No. ER01-3117-003]

Take notice that on January 28, 2005, Wellhead Power Gates, LLC (Gates) tendered for filing an updated market power analysis and notice of change in status with respect to the facts the Commission relied upon in granting Gates market-based rate authority.

Comment Date: 5 p.m. eastern time on February 18, 2005.

2. Wellhead Power Gates, Panoche, LLC

[Docket No. ER01-3118-003]

Take notice that on January 28, 2005, Wellhead Power Panoche, LLC (Panoche) tendered for filing an updated market power analysis and notice of change in status with respect to the facts the Commission relied upon in granting Panoche market-based rate authority.

Comment Date: 5 p.m. eastern time on February 18, 2005.

3. New York Independent System Operator, Inc.

[Docket No. ER04-1138-001]

Take notice that on January 28, 2005, the New York Independent System Operator, Inc. (NYISO) tendered for filing revisions to the ISO market administration and control area services tariff (the services tariff) and its open access transmission tariff to establish the effective date for certain provisions.

The NYISO states that it has electronically served a copy of this filing on the official representative of each of its customers, on each participant in its stakeholder committees, on the New York Public Service Commission, and on the electric utility regulatory agencies of New Jersey and Pennsylvania. In addition, NYISO also states that the complete filing has been posted on the NYISO's Web site at www.nyiso.com and the NYISO will make a paper copy available to any interested party that requests one.

Comment Date: 5 p.m. eastern time on February 18, 2005.

4. New York Independent System Operator, Inc.

[Docket No. ER04-230-007]

Take notice that on January 28, 2005, the New York Independent System Operator, Inc. (NYISO), pursuant to the Commission's Order issued February 11, 2004 in Docket Nos. ER04-230-000 and 001, tendered for filing compliance revisions to the ISO market administration and control area services tariff (the services tariff) and its open access transmission tariff to establish the effective date for certain provisions, to update software references, and to make ministerial corrections. NYISO states that the filing also provides information concerning emergency settlement procedures that the NYISO would follow in the event that its real-time scheduling software was disrupted during the first two weeks after its implementation.

The NYISO states that it has electronically served a copy of this filing on the official representative of each of its customers, on each participant in its stakeholder committees, on the New York Public Service Commission, and on the electric utility regulatory agencies of New Jersey and Pennsylvania. In addition, NYISO also states that the complete filing has been posted on the NYISO's Web site at http://www.nyiso.com and the NYISO will make a paper copy available to any interested party that requests one.

Comment Date: 5 p.m. eastern time on February 18, 2005.

5. Virginia Electric and Power Company

[Docket No. ER05-94-001]

Take notice that on January 28, 2005, Virginia Electric and Power Company (Dominion), tendered for filing an amendment to its October 28, 2004 filing in Docket No. ER05-94-000. Dominion states that the amendment was filed in response to a deficiency letter issued by the Commission on December 1, 2004.

Comment Date: 5 p.m. eastern time on February 18, 2005.

6. ISO New England Inc.

[Docket No. ER05-134-001]

Take notice that, on January 28, 2005, ISO New England Inc. (the ISO) submitted a compliance filing pursuant to the Commission's order issued December 30, 2004 in Docket No. ER05-134-000. The ISO states that the filing removes Schedule 5 from the ISO New England Inc. tariff for transmission dispatch and power administration services, FERC Electric Tariff, Volume No. 1.

ISO New England Inc. states that copies of the filing were served on parties on the official service list in the Docket No. ER05-134-000, as well as to the NEPOOL Participants and the New England state governors and regulatory commissions.

Comment Date: 5 p.m. eastern time on February 18, 2005.

7. ISO New England Inc.

[Docket No. ER05-135-001]

Take notice that, on January 28, 2005, ISO New England Inc. (ISO-NE) submitted a compliance filing pursuant to the Commission's letter order issued December 30, 2004 in Docket No. ER05-135-000. ISO-NE states that the filing amends section 8.1 and 8.2 of the ISO's Capital Funding Tariff to state that all quarterly and annual capital budget and expenditure filings will be filed pursuant to, and subject to Commission review under, section 205 of the Federal Power Act.

ISO New England Inc. states that copies of the filing were served on parties on the official service list in the above-captioned proceeding, as well as to the NEPOOL Participants and the New England state governors and regulatory commissions.

Comment Date: 5 p.m. eastern time on February 18, 2005.

8. New England Power Pool

[Docket No. ER05-402-000]

Take notice that on December 30, 2004, the New England Power Pool (NEPOOL) Participants Committee filed for acceptance materials to permit NEPOOL to expand its membership to include Gexa Energy LLC (Gexa); Lew A. Cummings Co. Inc. (Lew A. Cummings); Parkview Adventist Medical Center; Parkview AMC Energy, LLC; and Styrka Energy Master Fund LLC (collectively, the Applicants). NEPOOL Participants Committee requests an effective date of January 1, 2005 for NEPOOL membership of Lew A. Cummings, Parkview AMC Energy and Styrka. In addition, NEPOOL Participants Committee requests an effective date of February 1, 2005 for the NEPOOL membership of Gexa.

NEPOOL Participants Committee states that copies of these materials were sent to the New England state governors and regulatory commissions and the Participants in NEPOOL.

Comment Date: 5 p.m. eastern time on February 11, 2005.

9. Southern Indiana Gas and Electric Company

[Docket No. ER05-412-001]

Take notice that, on January 28, 2005, Southern Indiana Gas and Electric Company submitted an amendment to its revised market-based rate tariff filed December 10, 2004 in Docket Nos. ER96-2734-004 and ER05-412-000.

Vectren states that copies of the filing were served upon the public utility's jurisdictional customers who are located in its control area, the Indiana Utility Regulatory Commission and the official service list in the above-captioned proceeding.

Comment Date: 5 p.m. eastern time on February 18, 2005.

10. Northern States Power Company (Minnesota) Northern States Power Company (Wisconsin)

[Docket No. ER05-498-000]

Take notice that on January 27, 2005, Northern States Power Company and Northern States Power Company (Wisconsin) (collectively, NSP Companies) tendered for filing revised tariffs sheets to the Restated Agreement to Coordinate Planning and Operations and Interchange Power and Energy between Northern States Power (Minnesota) and Northern States Power Company (Wisconsin). The NSP companies request an effective date of January 1, 2005.

The NSP Companies state that a copy of the filing has been served upon the State Commissions of Michigan, Minnesota, North Dakota, South Dakota and Wisconsin.

Comment Date: 5 p.m. eastern time on February 17, 2005.

11. Southern California Edison Company

[Docket No. ER05-506-000]

Take notice that on January 28, 2005, Southern California Edison Company (SCE) tendered for filing revisions to its transmission owner tariff, FERC Electric Tariff, Second Revised Volume No. 6, to reflect revisions to the transmission access charge balancing account adjustment. SCE requests that the filing be made effective April 1, 2005.

SCE states that copies of this filing were served upon the Public Utilities Commission of the State of California, the California Independent System Operator, Pacific Gas and Electric Company, San Diego Gas & Electric Company, California Electricity Oversight Board, Trans-Elect, Western Area Power Administration and the Cities of Anaheim, Azusa, Banning, Riverside, Pasadena and Vernon, California.

Comment Date: 5 p.m. eastern time on February 18, 2005.

12. Virginia Electric and Power Company

[Docket No. ER05-507-000]

Take notice that on January 28, 2005, Virginia Electric and Power Company, doing business as Dominion Virginia Power (the Company), filed a service agreement with North Carolina Electric Membership Corporation (NCEMC) providing for the sale of capacity and firm energy under the Company's cost-based power sales tariff, Original Volume No. 7. The Company requests an effective date of January 1, 2005.

The Company has served this filing on NCEMC, the Virginia State Corporation Commission and the North Carolina Public Utilities Commission.

Comment Date: 5 p.m. eastern time on February 18, 2005.

13. PJM Interconnection, L.L.C.

[Docket No. ER05-509-000]

Take notice that on January 28, 2005, PJM Interconnection, L.L.C. (PJM), submitted for filing an executed interim interconnection service agreement (Interim ISA) among PJM, FPL Energy Marcus Hook, L.P., and PECO Energy Company, and a notice of cancellation for an Interim ISA that has been superseded. PJM requests an effective date of December 30, 2004.

PJM states that copies of this filing were served upon the parties to the agreement and the state regulatory commissions within the PJM region.

Comment Date: 5 p.m. eastern time on February 18, 2005.

14. Appalachian Power Company

[Docket No. ER05-510-000]

Take notice that on January 28, 2005, Appalachian Power Company (APCo) tendered for filing with the Commission a notice of cancellation of Rate Schedule FERC No. 102, an electric service agreement under which APCo currently provides service to Craig-Botetourt Electric Cooperative, Inc (Craig-Botetourt). APCo requests an effective date of March 1, 2005.

APCo states that a copy of its filing was served upon the Virginia State Corporation Commission and Craig-Botetourt.

Comment Date: 5 p.m. eastern time on February 18, 2005.

15. Virginia Electric and Power Company

[Docket No ER05-511-000]

Take notice that on January 28, 2005, Virginia Electric and Power Company (Dominion Virginia Power) tendered for filing a Service Agreement for Network Integration Transmission Service and Network Operating Agreement between Dominion Virginia Power and Central Virginia Electric Cooperative, designated as Service Agreement No. 395, under the Dominion Virginia Power's Open Access Transmission Tariff, FERC Electric Tariff, Second Revised Volume No. 5. Dominion Virginia Power requests an effective date of January 1, 2005.

Comment Date: 5 p.m. eastern time on February 18, 2005.

16. Valley Electric Association, Inc.

[Docket No. ES05-17-000]

Take notice that on January 24, 2005, Valley Electric Association, Inc. (Valley Electric) submitted an application pursuant to section 204 of the Federal Power Act seeking authorization to make long-term borrowings under two loan agreements with the National Rural Utilities Cooperative Finance corporation (CFC), in an amount up to $39.3 million under one loan agreement and in an amount up to $30 million under the other loan agreement. Valley Electric also seeks authorization to issue short-term debt in an amount up to $15 million under a revolving line of credit with CFC.

Valley Electric also requests a waiver of the Commission's competitive bidding and negotiated placement requirements at 18 CFR 34.2.

Comment Date: 5 p.m. eastern time on February 18, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-531 Filed 2-8-05; 8:45 am]

BILLING CODE 6717-01-P